DEPARTMENT OF HOMELAND SECURITY

[Docket No. CISA-2020-0002]

Correction to 30-Day Notice Requesting Extension of a Currently Approved Information Collection for Chemical-Terrorism Vulnerability Information (CVI)

AGENCY: Cybersecurity and Infrastructure Security Agency, DHS.

ACTION: Correction; extension of comment period.

SUMMARY: The Infrastructure Security Division (ISD) within the Cybersecurity and Infrastructure Security Agency (CISA) is issuing a correction to the 30-day notice and request for comments to extend Information Collection Request (ICR) 1670-0015 published in the Federal Register on July 20, 2020. Because this notice also includes an update and corrects the docket number in the previously published 30-day notice, CISA is extending the comment period for ICR 1670-0015 for an additional 30 days.

DATES: Comments are due by September 10, 2020.

ADDRESSES: Interested persons are invited to submit written comments on the proposed information collection to the Office of Information and Regulatory Affairs, OMB. Comments should be addressed to OMB Desk Officer, Department of Homeland Security, Cybersecurity and Infrastructure Security Agency, and sent via electronic mail to dhsdeskofficer@omb.eop.gov. All submissions must include the words “Department of Homeland Security” and the OMB Control Number 1670-0015.

Comments submitted in response to this notice may be made available to the public through relevant websites. For this reason, please do not include in your comments information of a confidential nature, such as sensitive personal information or proprietary information. Please note that responses to this public comment request containing any routine notice about the confidentiality of the communication will be treated as public comments that may be made available to the public notwithstanding the inclusion of the routine notice.

Comments that include trade secrets, confidential commercial or financial information, Chemical-terrorism Vulnerability Information (CVI),¹ Sensitive Security Information (SSI),² or Protected Critical Infrastructure Information (PCII) ³ should not be submitted to the public docket. Comments containing trade secrets, confidential commercial or financial information, CVI, SSI, or PCII should be appropriately marked and packaged in accordance with applicable requirements and submitted by mail to the DHS/CISA/Infrastructure Security Division, CFATS Program Manager, 245 Murray Lane SW, Mail Stop 0610, Arlington, VA 20528-0610. The Department will forward all comments received by the submission deadline to the OMB Desk Officer.

¹ For more information about CVI see 6 CFR 27.400 and the CVI Procedural Manual at www.dhs.gov/publication/safeguarding-cvi-manual.

² For more information about SSI see 49 CFR part 1520 and the SSI Program web page at www.tsa.gov/for-industry/sensitive-security-information.

³ For more information about PCII see 6 CFR part 29 and the PCII Program web page at www.dhs.gov/pcii-program.

FOR FURTHER INFORMATION CONTACT: Lona Saccomando, 703-235-5263, CISARegulations@cisa.dhs.gov.

SUPPLEMENTARY INFORMATION: CISA published the required 30-day notice for ICR 1670-0015 in the Federal Register on July 20, 2020 which provided the incorrect docket number for this notice.⁴ See 85 FR 43863 (July 20, 2020). The correct docket number associated with ICR 1670-0015 is CISA-2020-0002. Additionally, since publication of the 30-day notice on July 20, 2020 the legal authority to conduct this collection was extended through July 27, 2023.⁵

⁴ The 30-day notice may be viewed at https://www.federalregister.gov/d/2020-15570.

⁵ The Protecting and Securing Chemical Facilities from Terrorist Attacks Act of 2014 (also known as the CFATS Act of 2014, Pub. L. 113-254) codified the CFATS program into the Homeland Security Act of 2002. See 6 U.S.C. 621 et seq., as amended Public Law 116-150 (2nd Sess. 2020).

Richard S. Libby,
Deputy Chief Information Officer, Department of Homeland Security, Cybersecurity and Infrastructure Security Agency.

[FR Doc. 2020-17443 Filed 8-10-20; 8:45 am]

BILLING CODE 9110-9P-P